NUCLEAR REGULATORY COMMISSION

Notice of a Public Meeting on Assessing Future Regulatory Research Needs

AGENCY: U.S. Nuclear Regulatory Commission.

ACTION: Notice of public meeting.

SUMMARY: The U.S. Nuclear Regulatory Commission (NRC) will hold a fourth and final meeting of nuclear experts from the government, the nuclear industry, academia, and the public on February 21, 2001. As a result of the first two meetings, the nuclear experts issued a draft report composed of the individual views of the experts on the role and direction of regulatory research. The draft report contains a number of recommendations. The third meeting focused on strategies for implementing recommendations and briefings by the NRC licensing offices and the regions. The purpose of this meeting is to review, discuss, and propose individual recommendations on the role and future direction of regulatory research for Commission consideration. The Expert Panel will also discuss their perspectives and responses to questions posed to the panel by NRC Chairman Richard A. Meserve. The meeting is open to the public and all interested parties may attend.

DATES: The meeting will be held from 9:15 a.m. to 5 p.m. on February 21, 2001, at the Center for Strategic and International Studies (CSIS) located at 1800 K Street, NW., in Washington, DC (corner of 18th and K Streets). The telephone number for CSIS is 202-775-3115 (Lisa Hyland).

FOR FURTHER INFORMATION CONTACT: Questions with respect to this meeting should be referred to James W. Johnson, Office of Nuclear Regulatory Research, U.S. Nuclear Regulatory Commission at (301) 415-6293; fax (301) 415-5153; E-mail jwj@nrc.gov.

SUPPLEMENTARY INFORMATION: Parking is available in the vicinity of the CSIS location for a modest cost. CSIS can also be reached by Metro. CSIS is located one block west of the Farragut North Metro stop on the Red Line and one block north of the Farragut West Metro stop on the orange and blue lines. Seating for the public is limited and therefore will be on a first-come, first-serve basis.

Dated at Rockville, Maryland this 9th day of February 2001.
For the Nuclear Regulatory Commission.
Ashok C. Thadani,
Director, Office of Nuclear Regulatory Research, U.S. Nuclear Regulatory Commission.

[FR Doc. 01-3829 Filed 2-14-01; 8:45 am]

BILLING CODE 7590-01-P